DEPARTMENT OF THE INTERIOR

Bureau of Land Management

[18X.LLAK941000 L14100000.ET0000; F-16301, F-16302, AA-61299, F-16304, F-85667, AA-61005, F-86064]

Public Land Order No. 7879; Partial Revocation of Public Land Orders No. 5173, 5178, 5179, 5180, 5184, 5186 and 5187, Alaska

AGENCY: Bureau of Land Management, Interior.

ACTION: Public Land Order.

SUMMARY: This Order partially revokes seven Public Land Orders (PLOs) insofar as they affect 1,151,877.36 acres of public lands reserved for study and classification as appropriate by the Department of the Interior. The purposes for which these lands were withdrawn no longer exist as described in the analysis and decisions made through the Eastern Interior Fortymile Resource Management Plan (RMP).

DATES: This PLO takes effect on July 10, 2019.

FOR FURTHER INFORMATION CONTACT: David V. Mushovic, Bureau of Land Management Alaska State Office, 222 West Seventh Avenue, Mailstop #13, Anchorage, AK 99513-7504, 907-271-4682, or dmushovi@blm.gov. People who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: This Order follows the recommendations made in the Bureau of Land Management's 2016 Eastern Interior Fortymile RMP. The Environmental Impact Statement accompanying the Fortymile RMP serves as the detailed statement required under section 102(2)(C) of the National Environmental Policy Act. PLOs 5173 and 5178, as amended, modified, or corrected, withdrew lands for selection by Village and Regional Corporations under Sec. 11(a)(3) of Alaska Native Claims Settlement Act (ANCSA), and for classification. Sec. 22(h)(4) of ANCSA states “the Secretary is authorized to terminate any withdrawal . . . whenever he determines the withdrawal is no longer necessary.” The purposes for which these lands were withdrawn were satisfied by the analysis conducted during the development of the Bureau of Land Management's 2016 Eastern Interior Fortymile RMP. PLO No. 5179, as amended, modified, or corrected, withdrew lands in aid of legislation concerning addition to or creation of units of the National Park, National Forest, Wildlife Refuge, and Wild and Scenic Rivers Systems, and to allow for classification of the lands. Any additions to or creation of new units of National Parks, National Forests, Wildlife Refuges or Wild and Scenic Rivers from the land withdrawn by PLO No. 5179 were accomplished by the Alaska National Interest Lands Conservation Act (ANILCA). The classification of the lands withdrawn by PLO No. 5179 has been satisfied by the analysis conducted during the development of the Fortymile RMP. PLO No. 5180, as amended, modified, or corrected, withdrew lands to allow for classification and for the protection of the public interest in these lands. The classification and protection of the public interest in the lands withdrawn by PLO No. 5180 has been satisfied by the analysis conducted during the development of the Fortymile RMP. PLO No. 5184, as amended, modified, or corrected, withdrew lands to allow for classification or reclassification of some of areas withdrawn by Section 11 of the ANCSA. These purposes were satisfied by the analysis conducted during the development of the Fortymile RMP. PLO No. 5186, as amended, modified, or corrected, withdrew lands for classification and protection of the public interest in lands not selected by the State of Alaska. These purposes for which these lands were withdrawn were satisfied by the analysis conducted during the development of the Fortymile RMP. PLO No. 5187, as amended, modified, or corrected, withdrew lands for classification and protection of the public interest in lands in military reservations. The classification of the lands withdrawn by PLO No. 5187 has been satisfied by the analysis conducted during the development of the Fortymile RMP. In addition, PLO No. 5418, effective March 28, 1974, amends PLO No. 5180 to add “All unreserved public lands in Alaska, or those that may become unreserved unless specified by order at that time.” Upon revocation, the lands in this Order will not be subject to the terms and conditions of PLO No. 5418, which amended PLO No. 5180, but will continue to be subject to the terms and conditions of any other withdrawal, application, or segregation of record. Some lands covered by the revocation of the above listed withdrawals have been top-filed by the State of Alaska per the Alaska Statehood Act. Upon revocation of the above listed withdrawals, the top filings will convert to selections, subject to valid existing rights. Lands validly selected by or conveyed to the State of Alaska are not subject to the subsistence management provisions of Title VIII of the ANILCA as they no longer meet the definition of public lands. The Sec. 810 analysis for the approved Fortymile RMP found no significant restriction on subsistence uses due to this action.

Order

By virtue of the authority vested in the Secretary of the Interior by Section 204 of the Federal Land Policy and Management Act of 1976, 43 U.S.C. 1714, and Section 22(h)(4) of the ANCSA of 1971, 43 U.S.C. 1621(h)(4), it is ordered as follows:

1. Subject to valid existing rights, PLOs 5173 (37 FR 5575 (1972)); 5178 (37 FR 5579 (1972)); 5179 (37 FR 5579 (1972)); 5180 (37 FR 5583 (1972)); 5184 (37 FR 5588 (1972)); 5186 (37 FR 5589 (1972)); and 5187 (37 FR 5591 (1972)), and any amendments, modifications, or corrections to these orders, if any, are hereby revoked insofar as they affect the following described Federal lands:

Copper River Meridian, Alaska

T. 22 N, R. 5 E,

U.S. Survey No. 4359.

T. 24 N, R. 5 E,

sec. 31.

T. 22 N, R. 6 E,

Lot 2, U.S. Survey No. 4368.

T. 27 N, R. 6 E, unsurveyed

secs. 1, 2, 11, and 12.

T. 28 N, R. 6 E, unsurveyed

secs. 35 and 36.

T. 23 N, R. 7 E,

tract C, those lands within AKF-14852-B.

T. 27 N, R. 7 E, unsurveyed,

sec. 2, W½;

secs. 3 thru 10;

sec. 11, W½;

T. 28 N, R. 7 E, unsurveyed

secs. 31 thru 34.

T. 15 N, R. 8 E, unsurveyed,

tract C.

T. 21 N, R. 8 E,

tract B, that portion within AKF-14852-B and AKF-22481, excepting U.S. Survey No. 3620.

T. 20 N, R. 10 E,

secs. 14, 22, 27, and 34, excepting U.S. Survey No. 7310;

lots 5 and 6, U.S. Survey No. 5615A.

T. 21 N, R. 10 E,

tract A, those lands within AKF-22556.

T. 22 N, R. 10 E, unsurveyed.

T. 23 N, R. 10 E, unsurveyed,

excepting U.S. Survey Nos. 11204 and 13842.

T. 24 N, R. 10 E, partly unsurveyed.

T. 27 N, R. 10 E, partly unsurveyed,

sec. 5, E½ and NW¼;

sec. 8, E½;

sec. 17, E½;

sec. 20, E½;

sec. 28;

sec. 29, E½;

sec. 32, E½ and SW¼;

sec. 33.

T. 28 N, R. 10 E, partly unsurveyed,

sec. 31, NE¼;

secs. 32 thru 35.

T. 18 N, R. 11 E,

sec. 12, lot 5 and S½NE¼;

lots 5 and 8, U.S. Survey No. 2631.

T. 19 N, R. 11 E,

tract B, those lands within AKF-027784 and AKF-14943-A.

T. 20 N, R. 11 E,

sec. 30, lot 1, those lands within AKF-87180 parcel B and AKF-14943-B.

Tps. 22 thru 26 N, R. 11 E, partly unsurveyed.

T. 27 N, R. 11 E,

secs. 13 thru 18, secs. 22 thru 27, and secs. 31 thru 36;

tract A.

T. 15 N, R. 12 E,

tract A.

T. 18 N, R. 12 E,

sec. 7, lots 2 and 3;

sec. 25, S½SW¼ and SW¼SE¼;

sec. 36, NW¼NE¼.

T. 20 N, R. 12 E,

secs. 1 and 2 and secs. 11 thru 16.

T. 21 N, R. 12 E,

tract A.

T. 22 N, R. 12 E, partly unsurveyed,

secs. 1 thru 36;

U.S. Survey No. 14347.

T. 23 N, R. 12 E, partly unsurveyed.

T. 24 N, R. 12 E, partly unsurveyed,

secs. 6, 7, 18, 19, and secs. 34 thru 36.

T. 25 N, R. 12 E, partly unsurveyed,

secs. 1 thru 36;

U.S. Survey No. 14348.

T. 26 N, R. 12 E

T. 27 N, R. 12 E,

secs. 1 and secs. 11 thru 36.

T. 28 N, R. 12 E,

sec. 36.

Tps. 21, 22 and 23 N, R. 13 E, partly unsurveyed.

T. 24 N, R. 13 E, unsurveyed,

secs. 1 thru 4, excepting U.S. Survey Nos. 7617 and 7618;

secs. 12, 31, and 36.

T. 25 N, R. 13 E, partly unsurveyed,

secs. 1 thru 36, excepting U.S. Survey Nos. 7337 and 11243.

T. 26 N, R. 13 E

T. 27 N, R. 13 E, partly unsurveyed.

T. 28 N, R. 13 E

T. 20 N, R. 14 E, partly unsurveyed.

T. 26 N, R. 14 E, partly unsurveyed,

secs. 1 thru 23;

sec. 24, N½NE¼, SW¼NE¼, and W½, excepting, lots 3 thru 8, U.S. Survey No. 7609;

secs. 25 thru 36;

lots 7 and 8, U.S. Survey No. 7609.

T. 27 N, R. 14 E, unsurveyed.

T. 28 N, R. 14 E, unsurveyed,

secs. 31 thru 36.

T. 17 N, 15 E, unsurveyed,

secs. 1 and 12.

T. 18 N, R. 15 E,

tract B, excepting AKF-028269.

T. 20 N, R. 15 E, unsurveyed,

secs. 1 thru 24 and secs. 27 thru 34.

T. 21 N, R. 15 E, partly unsurveyed.

T. 19 N, R. 16 E,

tract A.

T. 20 N, R. 16 E, partly unsurveyed,

secs. 1 thru 4, secs. 9 thru 16, secs. 21 thru 28, and secs. 33 thru 36.

T. 21 N, R. 16 E,

secs. 1, 2, and 3, secs. 10 thru 15, secs. 22 thru 27, and secs. 34, 35 and 36.

T. 16 N, R. 17 E,

sec. 3, NW¼NW¼, excepting Tetlin National Wildlife Refuge;

sec. 4, NE¼NE¼, excepting Tetlin National Wildlife Refuge.

T. 27 N, R. 18 E,

sec. 29, excepting AKF-79587, U.S. Survey Nos. 13799 and 14233, and M.S. Nos. 2095 and 2178;

M.S. No. 2429, those lands within AKF-79587.

T. 15 N, R. 19 E,

sec. 14, W½NE¼, W½, and W½SE¼;

sec. 15, E½;

sec. 20, E½SE¼;

sec. 21, S½NE¼NE¼, S½NW¼NE¼, S½NE¼, S½NW¼, and S½;

sec. 22;

sec. 23, S½NE¼, W½, SE¼;

sec. 24, W½SW¼;

sec. 25, NW¼NW¼;

sec. 26, NE¼, N½NW¼, SE¼NW¼;

sec. 27, N½NE¼NE¼, N½NW¼NE¼, NE¼NE¼NW¼, SW¼, W½NW¼SE¼, and W½SW¼SE¼;

sec. 28, lot 4, excepting Interim Conveyance Nos. 364 and 365 as corrected by Interim Conveyance Nos. 2403 and 2404, and Tetlin National Wildlife Refuge;

sec. 29, lot 10, excepting Interim Conveyance Nos. 364, 365, 964 and 965, as corrected by Interim Conveyance Nos. 2403 and 2404, and Tetlin National Wildlife Refuge;

sec. 33, lot 11, excepting Interim Conveyance Nos. 364, 365, 964, and 965, as corrected by Interim Conveyance Nos. 2403 and 2404, and Tetlin National Wildlife Refuge;

sec. 34, W½NW¼NE¼, W½SW¼NE¼, NW¼, N½NE¼SW¼, and N½NW¼SW¼.

T. 14 N, R. 20 E,

secs. 1, 2, 11, 12, and 13.

T. 25 N, R. 22 E, unsurveyed,

secs. 1, 12, 13, 24, 25, and 36, those lands within Presidential Proclamation 810.

T. 26 N, R. 22 E, unsurveyed,

secs. 1, 12, 13, 24, 25, and 36, those lands within Presidential Proclamation 810.

T. 27 N, R. 22 E, unsurveyed,

secs. 1, 12, 13, and 24, those lands within Presidential Proclamation 810;

sec. 25, SE¼SE¼, those lands within Public Land Order No. 5645 as amended by Public Land Order No. 7336; and Presidential Proclamation 810.

sec. 36, those lands within Presidential Proclamation 810.

T. 28 N, R. 22 E, unsurveyed,

sec. 36, those lands within Presidential Proclamation 810.

T. 10 N, R. 23 E, unsurveyed,

secs. 1, 12, 13, 24, 25, and 36, those lands within Presidential Proclamation 810.

lots 5 and 8, U.S. Survey No. 5291, those portions northerly and easterly of the centerline of the Alaska Highway.

T. 11 N, R. 23 E, unsurveyed,

secs. 1, 12, 13, 24, 25, and 36, those lands within Presidential Proclamation 810.

T. 12 N, R. 23 E, unsurveyed,

secs. 1, 12, 13, 24, 25, and 36, those lands within Presidential Proclamation 810.

T. 13 N, R. 23 E, unsurveyed,

secs. 2, 11, 14, 23, 26, and 35, those lands within Presidential Proclamation 810.

T. 14 N, R. 23 E, unsurveyed,

secs. 2, 11, 14, 23, 26, and 35, those lands within Presidential Proclamation 810.

T. 15 N, R. 23 E, unsurveyed,

secs. 2, 11, 14, 23, 26, and 35, those lands within Presidential Proclamation 810.

T. 16 N, R. 23 E, unsurveyed,

secs. 2, 11, 14, 23, 26, and 35, those lands within Presidential Proclamation 810.

T. 17 N, R. 23 E, unsurveyed,

secs. 4, 9, 16, 21, 28, and 33, those lands within Presidential Proclamation 810.

T. 18 N, R. 23 E, unsurveyed,

secs. 4, 9, 16, 21, 28, and 33, those lands within Presidential Proclamation 810.

T. 19 N, R. 23 E, unsurveyed,

secs. 4, 9, 16, 21, 28, and 33, those lands within Presidential Proclamation 810.

T. 20 N, R. 23 E, unsurveyed,

secs. 4, 9, 16, 21, 28, and 33, those lands within Presidential Proclamation 810.

T. 21 N, R. 23 E, unsurveyed,

secs. 6, 7, 18, 19, 30, and 31, those lands within Presidential Proclamation 810.

T. 22 N, R. 23 E, unsurveyed,

secs. 6, 7, 18, 19, 30, and 31, those lands within Presidential Proclamation 810.

T. 23 N, R. 23 E, unsurveyed,

secs. 6, 7, 18, 19, 30, and 31, those lands within Presidential Proclamation 810.

T. 24 N, R. 23 E, unsurveyed,

secs. 6, 7, 18, 19, 30, and 31, those lands within Presidential Proclamation 810.

Fairbanks Meridian, Alaska

T. 2 N, R. 1 E,

sec. 13, S½NE¼, SE¼NW¼, and S½;

sec. 14, NE¼SE¼ and S½SE¼;

sec. 17, SE¼NE¼, SE¼SW¼, and SE¼;

sec. 20, E½, E½NW¼, E½SW¼, and SW¼SW¼;

sec. 21, excepting AKF-024507and M.S. Nos. 1606, 1619, 1620, 1762, 1784, 1785, 1939, 1940, 1981;

sec. 22, excepting M.S. Nos. 1619, 1620, 1659, 1940, 1941, and 1981;

sec. 23, excepting M.S. No. 1945;

sec. 24, excepting M.S. Nos. 1945 and 2483;

sec. 25;

sec. 26, excepting M.S. No. 1975;

sec. 27, excepting M.S. Nos. 1601, 1749, 1762, 1766, 1792, 1925, and 1975;

sec. 28, N½NE¼, N½NW¼, and SW¼NW¼, excepting M.S. Nos. 1606, 1634, 1744, 1762, 1766, 1772, 1781, 1784, 1785, 1791, 1925;

sec. 29, lot 7, N½, and NW¼SW¼;

sec. 30, SE¼NE¼ and NE¼SE¼;

sec. 32, W½SE¼, SE¼SE¼;

sec. 34, lots 1 and 2, N½NE¼, NW¼;

sec. 35, E½NE¼ and W½NW¼;

M.S. No. 2401.

T. 2 N, R. 2 E,

sec. 7 and 18, excepting AKF-029454;

sec. 19, lots 1, 2, and 3, excepting AKF-029454;

sec. 20, excepting AKF-029454.

T. 3 N, R. 27 E, unsurveyed,

secs. 1 and 2, secs. 11 thru 14, and secs. 24 and 25.

T. 4 N, R. 27 E, unsurveyed,

secs. 1, 2, secs. 11 thru 14, secs. 23 thru 26, and secs. 35 and 36, excepting the Yukon-Charley Rivers National Preserve.

T. 1 N, R. 28 E, partly unsurveyed,

secs. 27 and 28;

sec. 29, N½;

sec. 30, NE¼;

sec. 34, NE¼.

T. 2 N, R. 28 E, partly unsurveyed,

secs. 1 thru 6 and secs. 11 and 12.

T. 3 N, R. 28 E, unsurveyed,

secs. 5 thru 9, secs. 15 thru 22, and secs. 25 thru 36, excepting the Yukon-Charley Rivers National Preserve.

T. 2 N, R. 29 E, partly unsurveyed,

secs. 5 thru 8, secs. 12 thru 18, and secs. 21 thru 26, excepting Yukon-Charley Rivers National Preserve, and U.S. Survey No. 8005

T. 3 N, R. 29 E, unsurveyed,

secs. 30 and 31, excepting the Yukon-Charley Rivers National Preserve.

T. 2 N, R. 30 E, unsurveyed,

secs. 7, and 16 thru 27, excepting the Yukon-Charley Rivers National Preserve.

T. 2 N, R. 31 E,

secs. 30, 31, and 32, excepting the Yukon-Charley Rivers National Preserve

T. 1 N, R. 33 E,

sec. 22, Lot 1;

sec. 27, Lot 1;

sec. 34, Lot 1.

T. 1 S., R. 1 E,

sec. 24, S½NW¼, NE¼SW¼, N½NW¼SW¼, E½SW¼NW¼SW¼, and SE¼NW¼SW¼.

T. 2 S, R. 2 E, partly unsurveyed,

sec. 12, E½NE¼NE¼ and E½SE¼NE¼.

T. 2 S, R. 3 E, partly unsurveyed,

sec. 5, SW¼SW¼SW¼ and S½SE¼SW¼SW¼;

sec. 6, lot 9, S½N½SE¼SW¼, S½SE¼SW¼, S½N½S½SE¼, and S½S½SE¼;

sec. 7, lots 1, 2, 3, NE¼, E½NW¼, NE¼SW¼, E½SE¼SW¼, E½NW¼SE¼SW¼, NE¼SW¼SE¼SW¼, N½SE¼, SW¼SE¼, NW¼SE¼SE¼, N½SW¼SE¼SE¼, and SW¼SW¼SE¼SE¼;

sec. 8, W½NW¼, W½NE¼NW¼SW¼, NW¼NW¼SW¼, and N½SW¼NW¼SW¼;

sec. 13;

sec. 14, E½SW¼ and SE¼;

sec. 18, W½NE¼, W½½NE¼NE¼, and W½W½SE¼NE¼;

sec. 19; NE¼, SE¼NW¼, NE¼SW¼, N½SE¼SW¼, N½SE¼, and N½S½SE¼, excepting U.S Survey No. 9074;

sec. 20, W½NE¼, NW¼, and N½N½SW¼;

sec. 22, SE¼SE¼;

sec. 23, NE¼, E½NW¼, SW¼, and NW¼SE¼;

sec. 24, N½;

sec. 26, NW¼NW¼;

sec. 27, E½;

sec. 33, lots 1 thru 11 and NE¼NE¼;

sec. 34, lots 1 thru 11, E½, E½NW¼, and SW¼SW¼;

secs. 35 and 36.

T. 3 S, R. 3 E, partly unsurveyed,

secs. 1, 2, and 3;

sec. 4, lots 1, 2, 3, 6 thru 12 and NE¼SE¼;

sec. 9, lots 1 thru 6;

sec. 10, N½, N½SW¼, SE¼SW¼, and SE¼;

secs. 11 thru 14,

sec. 15, lots 1 thru 9;

secs. 23, 24, and 25;

sec. 26, E½, E½NW¼, and E½SW¼

sec. 35, lots 1 thru 9, SE¼NE¼, and E½SE¼;

sec. 36.

T. 1 S, R. 4 E, partly unsurveyed,

sec. 9, lots 4 and 7;

sec. 16, lot 2;

sec. 17, lot 4;

sec. 21, lot 2.

T. 2 S, R. 4 E, unsurveyed,

sec. 17, W½;

sec. 18;

sec. 19, N½;

sec. 20, NW¼.

T. 3 S, R. 4 E, unsurveyed,

secs. 6 and 7;

sec. 8, S½;

sec. 9, SW¼;

secs. 16, 17, and 18;

sec. 19, N½ and SW¼;

sec. 20, N½;

sec. 21, N½.

T. 6 S, R. 4 E,

sec. 2, lots 13, 14, 23, 28, 34, 39, 42, 43, 44, 48, 49, 50, 51, 52, 53, 56, 100, 101, and 159;

sec. 10, lots 10 and 12;

sec. 11, lots 13 thru 16.

T. 7 S, 5 E, partly unsurveyed,

sec. 12, lots 7, 8, 10, and 11;

sec. 13, lots 11, 17, 18, 21, 22, and 32.

T. 7 S, R. 6 E,

sec. 7, lots 3 and 5.

T. 8 S, R. 18 E,

sec. 4, W½ and SE¼;

sec. 9;

sec. 10, W½ and SE¼;

sec. 14, W½ and SE¼;

secs. 15, 16, 21, 22 and 23;

sec. 24, W½ and SE¼;

secs. 25 thru 28 and secs. 33 thru 36.

T. 3 S, R. 19 E, partly unsurveyed,

tract A.

T. 4 S, R. 20 E, partly unsurveyed,

tract A.

T. 7 S, R. 22 E, unsurveyed,

sec. 2;

sec. 10, SE¼;

sec. 11;

secs. 22 and 27;

sec. 28, E½;

secs. 33 and 34.

T. 8 S, R. 22 E, partly unsurveyed,

sec. 5, E½.

T. 7 S, R. 23 E, partly unsurveyed,

secs. 3 thru 9, and secs. 17, 18, and 19;

sec. 24, S½;

secs. 30 and 31.

T. 6 S, R. 24 E, partly unsurveyed,

sec. 1;

sec. 2, S½;

sec. 3, SE¼;

sec. 11, N½ and SE¼;

sec. 12;

sec. 13, N½NE¼ and N½NW¼;

sec. 24, SE¼SE¼;

sec. 25, NE¼NE¼, S½NE¼, and SE¼;

sec. 36.

T. 7 S, R. 24 E,

sec. 1;

sec 11, NE¼ and S½;

secs. 12, 13, and 14;

sec. 15, SE¼;

sec. 19, NE¼ and S½;

sec. 20;

sec. 21, S½;

secs. 22 thru 36.

T. 8 S, R. 24 E,

secs. 1 thru 4, secs. 9 thru 16, secs. 21 thru 28, and secs. 33 thru 36.

T. 5 S, R. 25 E, partly unsurveyed,

sec. 12, SE¼;

sec. 13;

sec. 14, SE¼;

sec. 22, S½;

sec. 23;

sec. 24, N½, N½SW¼, SW¼SW¼, and NW¼SE¼;

sec. 27, N½, SW¼, and NW¼SE¼;

sec. 28, NE¼ and S½;

sec. 29, SE¼;

sec. 31, S½;

sec. 32;

sec. 33, N½, SW¼, and W½SE¼.

T. 6 S, R. 25 E, partly unsurveyed,

sec. 4, W½NW¼;

secs. 5, 6, and 7;

sec. 8, N½NE¼, N½NW¼, SW¼NW¼, and W½SW¼;

sec. 10, SE¼;

sec. 11, S½NE¼, S½NW¼, and S½;

secs. 12 thru 15;

sec. 16, SE¼SE¼;

sec. 17, NW¼NW¼;

sec. 18, N½NE¼ and N½NW¼;

sec. 19, S½SW¼ and SE¼;

sec. 20, W½SW¼, SE¼SW¼, and S½SE¼;

sec. 21, NE¼NE¼, S½NE¼, NE¼SW¼, S½SW¼, and SE¼;

secs. 22 thru 36.

T. 7 S, R. 25 E,

secs. 1 thru 8, secs. 17 thru 20, secs. 22 thru 27, and secs. 29, thru 36;

tracts A and B.

T. 8 S, R. 25 E

T. 5 S, R. 26 E, partly unsurveyed,

secs. 1 thru 5;

sec. 6, SE¼;

secs. 7 thru 12;

sec. 15, N½ and NW¼SW¼;

sec. 16, N½, N½SW¼, SE¼SW¼, and N½SE¼;

secs. 17 and 18;

sec. 19, N½;

sec. 20, W½NW¼;

sec. 24, S½SE¼;

sec. 25, E½, E½NW¼, and SW¼;

sec. 26, S½;

sec. 27, S½SW¼ and S½SE¼;

sec. 31, S½SW¼, S½SE¼;

sec. 32, S½NE¼, S½SW¼, and SE¼;

secs. 33 thru 36.

Tps. 6 and 7 S, R. 26 E.

T. 4 S, R. 27 E, partly unsurveyed,

sec. 20, W½;

sec. 29, NW¼;

sec. 32, SW¼.

T. 5 S, R. 27 E, unsurveyed,

sec. 2, W½ and SE¼;

secs. 3 thru 8;

sec. 9, N½NE¼ and N½NW¼;

sec. 10, N½NE¼ and N½NW¼;

sec. 11, NE¼, N½NW¼, and N½SE¼;

sec. 12, W½;

sec. 19, S½SW¼ and S½SE¼;

sec. 25, NE¼NE¼, S½NE¼, S½NW¼, and S½;

sec. 26, S½NE¼, S½NW¼, and S½;

sec. 27;

sec. 28, NE¼, S½NW¼, and S½;

sec. 29, W½NE¼, SE¼NE¼, W½, and SE¼;

secs. 30 thru 36.

T. 3 S, R. 28 E, partly unsurveyed,

secs. 1 thru 4, and secs. 9 thru 17;

sec. 18, E½ and NW¼;

sec 20, E½ and NW¼;

secs. 21 thru 28;

sec. 32, NE¼NE¼;

sec. 33, E½ and NW¼;

secs. 34, 35, and 36.

T. 4 S, R. 28 E, partly unsurveyed,

secs. 1 and 2.

T. 5 S, R. 28 E,

sec. 30, W½ and S½SE¼;

sec. 31;

sec. 32, N½ and SW¼.

T. 6 S, R. 28 E, partly unsurveyed

sec. 31, SE¼NE¼, NW¼NW¼, SE¼SW¼, and SE¼;

sec. 32, E½, E½NW¼, SW¼NW¼, and SW¼;

sec. 33.

T. 7 S, R. 28 E, partly unsurveyed,

secs. 4 and 5;

sec. 6, E½, E½NW¼, SW¼NW¼, and SW¼;

secs. 7, 8, and 9;

secs. 14 thru 23 and secs. 26 thru 30;

sec. 31, lot 1;

secs. 32 thru 35.

T. 1 S, R. 29 E, partly unsurveyed,

sec. 24, NE¼.

T. 2 S, R. 29 E, unsurveyed,

sec. 36, S½.

T. 3 S, R. 29 E, partly unsurveyed.

T. 4 S, R. 29 E, partly unsurveyed,

secs. 1 thru 12;

sec. 20, N½, N½SW¼, N½SE¼, and SE¼SE¼;

secs. 21 and 22;

sec. 25, N½, NE¼SW¼, and N½SE¼;

sec. 26, N½;

sec. 27, N½NE¼ and N½NW¼;

sec. 29, S½SW¼ and SW¼SE¼;

sec. 30, SW¼, W½SE¼, and SE¼SE¼;

secs. 31 and 32;

sec. 33, S½NE¼, W½, and SE¼;

sec. 34, S½NE¼, S½NW¼, and S½;

sec. 35, S½NW¼ and S½;

sec. 36, W½SW¼, SE¼SW¼, and S½SE¼.

T. 5 S, R. 29 E, partly unsurveyed,

secs. 1, 12, and 13;

sec. 14, E½;

sec. 24, E½.

T. 1 S R., 30 E, unsurveyed,

secs. 5 thru 8;

secs. 13 thru 29;

sec. 30, N½;

sec. 33, N½;

sec. 34, N½;

sec. 35, N½;

sec. 36, N/12.

T. 2 S R., 30 E, unsurveyed,

sec. 25, W½ and SE¼;

sec. 26;

sec. 27, NE¼ and S½;

sec. 31, S½;

sec. 32;

sec. 33, S½;

secs. 34, 35, and 36.

T. 3 S, R. 30 E, partly unsurveyed.

T. 4 S, R. 30 E, partly unsurveyed,

sec. 1, N½, SW¼, N½SE¼, SW¼SE¼;

secs. 2 and 11, 12, 13, 24, 25, 28, and 29;

sec. 30, N½, N½SW¼, and N½SE¼;

sec. 31, S½SW¼;

sec. 32, N½NE¼;

sec. 33, N½, N½SW¼, and NW¼SE¼;

sec. 34, N½;

sec. 35, N½;

sec. 36, N½.

T. 5 S, R. 30 E, partly unsurveyed,

sec. 3, W½NE¼, W½, and SE¼;

secs. 4 thru 7, and secs. 18 and 19.

T. 4 S, R. 31 E, partly unsurveyed,

secs. 1 thru 5;

sec. 6, E½, NW¼, N½SW¼, and SE¼SW¼;

secs. 8 thru 17;

secs. 20, 21, 22, 27, 28, 33, and 34;

tract A.

T. 5 S, R. 31 E, partly unsurveyed,

secs. 1 and 2;

sec. 3, NE¼, NE¼NW¼, S½NW¼, and S½;

sec. 4, SE¼NE¼ and S½;

sec. 5, S½SW¼ and SE¼;

secs. 8 and 9.

T. 7 S, R. 31 E, unsurveyed,

sec. 1;

sec. 2, E½;

sec. 12, NE¼.

T. 3 S, R. 32 E,

secs. 20 and 21, 28, and 29;

sec. 33, lots 1 and 2;

sec. 34.

T. 5 S, R. 32 E, partly unsurveyed,

sec. 36, S½NE¼, S½NW¼, S½.

T. 6 S, R. 32 E, partly unsurveyed,

secs. 12, 13, and secs. 23 thru 26;

sec. 33, excepting PL 96-487 Fortymile Wild and Scenic River;

sec. 36.

T. 7 S, R. 32 E, partly unsurveyed,

sec. 2, N½.

T. 1 S, R. 33 E,

sec. 1, lot 1;

sec. 12, lot 1;

sec. 13, lot 1;

sec. 24, lot 1;

sec. 25, lot 1;

sec. 36, lot 1.

T. 2 S, R. 33 E,

sec. 1, lot 3;

sec. 12, lot 7;

sec. 13, lot 5;

sec. 24, lot 1;

sec. 25, lot 1;

sec. 36, lot 1.

T. 3 S, R. 33 E,

sec. 1, lots 1 and 4;

sec. 12, lot 1;

sec. 13, lot 1;

sec. 24, lot 1;

sec. 25, lot 1;

sec. 36, lot 1.

T. 4 S, R. 33 E,

sec. 1, lot 1;

sec. 12, lot 1;

sec. 13, lot 1;

sec. 24, lot 1;

sec. 25, lot 1;

sec. 36, lot 1.

T. 5 S, R. 33 E, partly unsurveyed,

secs. 1, 12, 13, 23 thru 27, and 33 thru 36.

T. 6 S, R. 33 E, unsurveyed,

sec. 26, NW¼;

secs. 27 thru 34.

T. 7 S, R. 33 E, unsurveyed,

sec. 3, N½ and SW¼;

secs. 4 and 5;

sec. 6, N½ and SE¼;

sec. 7, NE¼;

sec. 8, N½;

sec. 9, N½ and SE¼;

sec. 10, NW¼.

T. 5 S, R. 34 E, unsurveyed,

secs. 4, 9, 16, and 21, those lands within Presidential Proclamation 810;

secs. 28, 29, 31, 32, and 33.

T. 6 S, R. 34 E, unsurveyed,

sec. 4, N½;

sec. 5, N½ and SW¼;

sec. 6;

sec. 7, N½ and SW¼;

sec. 18, NW¼.

T. 7 S, R. 34 E, unsurveyed,

sec. 32, SW¼.

The areas described aggregate 1,151,877.36 acres.

2. The lands subject to revocation in this order will not be subject to additional withdrawal by PLO 5418.

3. At 8 a.m. AKST on August 9, 2019, the lands described in Paragraph 1 shall be open to all forms of appropriation under the public land laws, including location and entry under the mining laws, leasing under the Mineral Leasing Act of February 25, 1920, as amended, subject to valid existing rights, the provisions of existing withdrawals, other segregations of record, and the requirements of applicable law. All valid applications received at or prior to 8 a.m. AKDST on August 9, 2019, shall be considered as simultaneously filed at that time. Those received thereafter shall be considered in the order of filing. Appropriation of any of the lands referenced in this order under the general mining laws prior to the date and time of revocation is unauthorized. Any such attempted appropriation, including attempted adverse possession under 30 U.S.C. 38, shall vest no rights against the United States. State law governs acts required to establish a location and to initiate a right of possession where not in conflict with Federal law. The BLM will not intervene in disputes between rival locators over possessory rights since Congress has provided for such determinations in local courts.

Dated: June 26, 2019.
Joseph R. Balash,
Assistant Secretary for Land and Minerals Management.

[FR Doc. 2019-14709 Filed 7-9-19; 8:45 am]

BILLING CODE 4310-JA-P